DEPARTMENT OF HEALTH AND HUMAN SERVICES

Food and Drug Administration

Advisory Committees; Notice of Meetings

AGENCY: Food and Drug Administration, HHS.

ACTION: Notice.

SUMMARY: The Food and Drug Administration (FDA) is announcing a tentative schedule of forthcoming meetings of its public advisory committees for 2001. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Donna M. Combs, Committee Management Office (HFA-306), Food and Drug Administration, 5600 Fishers Lane, Rockville, MD 20857, 301-827-5496.

SUPPLEMENTARY INFORMATION: The IOM, at the request of the Commissioner, undertook a study of the use of FDA's advisory committees. In its final report in 1992, one of the IOM's recommendations was for FDA to adopt a policy of publishing an advance yearly schedule of its upcoming public advisory committee meetings in the Federal Register and FDA implemented the recommendation. The annual publication of tentatively scheduled advisory committee meetings will provide both advisory committee members and the public with the opportunity, in advance, to schedule attendance at FDA's upcoming advisory committee meetings. Since the schedule is tentative, amendments to this notice will not be published in the Federal Register. However, changes to the schedule will be posted on the FDA Advisory Committees' home page located at www.fda.gov/oc/advisory/default.htm. The FDA will continue to publish a Federal Register notice 15 days in advance of each upcoming advisory committee meeting, to announce the meeting (21 CFR 14.20).

The following list announces FDA's tentatively scheduled advisory committee meetings for 2001. You may also obtain up-to-date meeting information by calling the Advisory Committee Information Line, 1-800-741-8138 (301-443-0572 in the Washington, DC area):

Committee Name | Dates of Meetings | Advisory Committee 5-Digit Information Line Code
OFFICE OF THE COMMISSIONER
Science Board to the Food and Drug Administration | April 13 November 16 | 12603
CENTER FOR BIOLOGICS EVALUATION AND RESEARCH
Allergenic Products Advisory Committee | March 5 October 29 | 12388
Biological Response Modifiers Advisory Committee | January 18-19 April 5-6 July 12-13 October 25-26 | 12389
Blood Products Advisory Committee | March 15-16 July 26-27 September 20-21 December 13-14 | 19516
Transmissible Spongiform Encephalopathies Advisory Committee | January 18-19 June 28-29 October 25-26 | 12392
Vaccines and Related Biological Products Advisory Committee | January 30-31 March 8-9 May 16-17 September 13-14 November 28-29 | 12391
CENTER FOR DRUG EVALUATION AND RESEARCH
Advisory Committee for Pharmaceutical Science | April 23-24 August 13-14 October 29-30 | 12539
Advisory Committee for Reproductive Health Drugs | June 1 | 12537
Anesthetic and Life Support Drugs Advisory Committee | January 25-26 May 10-11 September 13-14 | 12529
Anti-Infective Drugs Advisory Committee | January 29-30 | 12530
Antiviral Drugs Advisory Committee | January 11 April 26-27 July 23-24 October 22-23 December 6-7 | 12531
Arthritis Advisory Committee | February 7-9 April 19-20 August 16-17 October 11-12 December 6-7 | 12532
Cardiovascular and Renal Drugs Advisory Committee | February 8-9 May 17-18 October 18-19 | 12533
Dermatologic and Ophthalmic Drugs Advisory Committee | February 5 June 5 August 14 September 18 December 9-10 | 12534
Drug Abuse Advisory Committee | No meetings are planned | 12535
Endocrinologic and Metabolic Drugs Advisory Committee | February 22-23 April 26-27 July 26-27 September 20-21 November 8-9 | 12536
Gastrointestinal Drugs Advisory Committee | March 29-30 | 12538
Medical Imaging Drugs Advisory Committee | March 1 July 2 | 12540
Nonprescription Drugs Advisory Committee | May 10-11 | 12541
Oncologic Drugs Advisory Committee | March 13-14 June 7-8 | 12542
Peripheral and Central Nervous System Drugs Advisory Committee | March 13-15 | 12543
Pharmacy Compounding Advisory Committee | March 29-30 June 28-29 September 13-14 | 12440
Psychopharmacologic Drugs Advisory Committee | February 14-15 | 12544
Pulmonary-Allergy Drugs Advisory Committee | January 18-19 April 26-27 September 6-7 | 12545
CENTER FOR FOOD SAFETY AND APPLIED NUTRITION
Food Advisory Committee | April 23-24 September 24-25 | 10564
CENTER FOR DEVICES AND RADIOLOGICAL HEALTH
Device Good Manufacturing Practice Advisory Committee | No meetings are planned | 12398
Medical Devices Advisory Committee
Anesthesiology and Respiratory Therapy Devices Panel | June 14-15 | 12624
Circulatory System Devices Panel | February 5 April 2-3 June 25-26 September 10-11 December 3-4 | 12625
Clinical Chemistry and Clinical Toxicology Devices Panel | January 17 May 9 July 11 October 24-25 December 5-6 | 12514
Dental Products Panel | April 3-4 August 14-15 November 13-14 | 12518
Dispute Resolution Panel | Will meet as needed | 10232
Ear, Nose, and Throat Devices Panel | February 22-23 June 11-12 October 11-12 | 12522
Gastroenterology-Urology Devices Panel | March 9 June 29 September 24-25 December 10-11 | 12523
General and Plastic Surgery Devices Panel | February 7 May 15-16 September 24-25 December 10-11 | 12519
General Hospital and Personal Use Devices Panel | February 12-13 May 17-18 August 2-3 November 1-2 | 12520
Hematology and Pathology Devices Panel | February 26 April 23 July 30 October 8 | 12515
Immunology Devices Panel | March 16 June 15 September 14 December 3 | 12516
Microbiology Devices Panel | March 8-9 July 19-20 October 25-26 December 6-7 | 12517
Molecular and Clinical Genetics Panel | March 9 June 8 September 7 December 7 | 10231
Neurological Devices Panel | February 8-9 May 17-18 November 15-16 | 12513
Obstetrics-Gynecology Devices Panel | January 29-30 April 30-May 1 July 16-17 October 15-16 | 12524
Ophthalmic Devices Panel | March 15-16 May 17-18 July 19-20 September 20-21 November 29-30 | 12396
Orthopaedic and Rehabilitation Devices Panel | January 18-19 May 10-11 August 9-10 November 1-2 | 12521
Radiological Devices Panel | February 5 May 14 August 13 November 5 | 12526
National Mammography Quality Assurance Advisory Committee | April 23 September 10 | 12397
Technical Electronic Product Radiation Safety Standards Committee | May 16-17 | 12399
CENTER FOR VETERINARY MEDICINE
Veterinary Medicine Advisory Committee | February 20-21 September 12-13 | 12548
NATIONAL CENTER FOR TOXICOLOGICAL RESEARCH
Advisory Committee on Special Studies Relating to the Possible Long-Term Health Effects of Phenoxy Herbicides and Contaminants | December 6-7 May 10-11 | 12560
Science Board to the National Center for Toxicological Research | June 7-8 | 12559

Dated: December 5, 2000.
Linda A. Suydam,
Senior Associate Commissioner.

[FR Doc. 00-31589 Filed 12-11-00; 8:45 am]

BILLING CODE 4160-01-F